DEPARTMENT OF THE INTERIOR

Minerals Management Service

Outer Continental Shelf (OCS) Policy Committee of the Minerals Management Advisory Board; Notice and Agenda for Meeting

AGENCY: Minerals Management Service, Interior.

ACTION: Notice of meeting.

SUMMARY: The OCS Policy Committee of the Minerals Management Advisory Board will meet at the Astor Crown Plaza New Orleans Hotel in New Orleans, Louisiana.

DATES: Wednesday, November 20, 2002, from 8:30 a.m. to 5 p.m. CST and Thursday, November 21, 2002, from 8:30 a.m. to 4 p.m CST.

ADDRESSES: The Astor Crown Plaza New Orleans Hotel, 739 Canal @ Bourbon, New Orleans, Louisiana 20170, telephone (504) 962-0500.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal States, environmental interests, industry and other parties involved with the OCS Program. It provides policy advice to the Secretary of the Interior through the Director of MMS on all aspects of leasing, exploration, development, and protection of OCS resources.

The agenda for November 20 will cover the following principal subjects:

Congressional/Legislative Update. This presentation will provide an update on current congressional issues related to the OCS Program.

Global Energy. This presentation will address the varying positions on future supply and demand scenarios.

Future of Energy. This presentation will provide a futuristic perspective on energy.

OCS Scientific Committee Update. This presentation will provide an update on the activities of the Scientific Committee. It will highlight activities that are related to mercury, energy issues/concerns, ocean issues, hard mineral activities, and any other topics that are relevant to both Committees.

Alternative Use Legislation. This presentation will provide an update on legislation concerning offshore liquefied natural gas terminals and other energy-related uses of the OCS.

Methane Hydrate—Status of Technology. This presentation will address future energy supply from offshore methane hydrates.

Oil in the Seas III: Inputs, Fates and Effects. This presentation will provide an overview of the findings from the Oil in the Sea Report that was funded by MMS, Department of Energy, U.S. Geological Survey, Environmental Protection Agency, U.S. Coast Guard, U.S. Navy, American Petroleum Institute, and National Ocean Industries Association. The presentation will also compare the recent findings with the 1985 report.

National Marine Sanctuaries. This presentation will address national marine sanctuaries, their location and characteristics, and their relevance to oil and gas development.

The agenda for November 21 will cover the following principal subjects:

Hard Minerals Subcommittee Update. This presentation will provide an update on subcommittee activities and other pertinent hard minerals information.

Coastal Erosion/Restoration—Louisiana's Perspective. This presentation will address the State of Louisiana's coastal situation, with emphasis on adverse impacts caused by offshore operations and on restoration efforts. It will also address the socioeconomic effects in coastal communities (i.e., Port Fourchon, Morgan City, and Abbeville).

Mercury Update. This panel discussion will provide an update on relevant MMS activities since the May 2002 Policy Committee meeting. It will include an overview of the activities of the Interagency Working Group on Methylmercury; a brief description of findings from a recent offshore Gulf of Mexico platform sampling activity; and a report from the Scientific Subcommittee on Mercury.

Benthic Communities Studies. This presentation will address the results of MMS's $5.33 million deepwater benthos study.

Ocean Commission. This presentation will provide a brief update on the U.S. Commission on Ocean Policy's activities since May 2002.

Archeological Finds in the Gulf. This presentation will address recent discoveries in the Gulf of Mexico that have generated international acclaim. The MMS, through its responsibilities under the National Historic Preservation Act, requires operators to conduct remote sensing surveys to avoid potential targets which may be historically significant.

Education and Outreach. This presentation will provide the Committee with an update on the Education and Outreach Subcommittee's activities since May 2002. It will also address Eric Smith's work with risk perception, factors that shape public opinion regarding energy extraction, and any other pertinent information that could assist the Subcommittee in working towards a report for the full Committee's review.

MMS Regional Updates. The Regional Directors will highlight activities off the California and Alaska coasts and the Gulf of Mexico.

The meeting is open to the public. Approximately 100 visitors can be accommodated on a first-come-first-served basis.

Upon request, interested parties may make oral or written presentations to the OCS Policy Committee. Such requests should be made no later than November 13, 2002, to Jeryne Bryant. Requests to make oral statements should be accompanied by a summary of the statement to be made. Please see FOR FURTHER INFORMATION CONTACT section for address and telephone number.

Minutes of the OCS Policy Committee meeting will be available for public inspection and copying at the MMS in Herndon, Virginia.

Authority: Federal Advisory Committee Act, Pub. L. 92-463, 5 U.S.C. Appendix 1, and the Office of Management and Budget's Circular No. A-63, Revised.

Dated: October 28, 2002.
Thomas A. Readinger,
Associate Director for Offshore Minerals Management.

[FR Doc. 02-28148 Filed 11-5-02; 8:45 am]

BILLING CODE 4310-MR-P